DEPARTMENT OF COMMERCE

Foreign-Trade Zones Board

[B-24-2021]

Foreign-Trade Zone 76—Bridgeport, Connecticut; Application for Reorganization Under Alternative Site Framework

An application has been submitted to the Foreign-Trade Zones (FTZ) Board by the Bridgeport Port Authority, grantee of FTZ 76, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on March 19, 2021.

FTZ 76 was approved by the FTZ Board on March 26, 1982 (Board Order 186, 47 FR 14932, April 7, 1982) and expanded on November 9, 1994 (Board Order 713, 59 FR 59992, November 21, 1994).

The current zone includes the following sites: Site 1 (3 acres)—Foreign-Trade Zone Industrial Park, 939 Barnum Avenue, Bridgeport; Site 2 (14 acres)—Campus Office Park, 480 Barnum Avenue, Bridgeport; Site 3 (36 acres)—Bridgeport Brass Facility, 427 Housatonic Avenue, Bridgeport; Site 4 (50 acres)—Bridgeport Regional Maritime Complex, 837 Seaview Avenue, Bridgeport; Site 5 (20 acres)—Cilco Terminal, 315-441 Seaview Avenue, Bridgeport; and, Site 6 (353 acres)—Remington Woods, 615 Asylum Street, Bridgeport. The zone also includes three subzones: Subzone 76A for ASML US, LLC consisting of five sites in Wilton, Newtown and Bethel; Subzone 76B for MannKind Corporation consisting of two sites in Danbury; and, Subzone 76C for SDI USA, LLC consisting of one site in Meriden.

The grantee's proposed service area under the ASF would include Fairfield and Litchfield Counties as well as a portion of New Haven County, as described in the application. If approved, the grantee would be able to serve sites throughout the service area based on companies' needs for FTZ designation. The application indicates that the proposed service area is within and adjacent to the Bridgeport, Connecticut Customs and Border Protection port of entry.

The applicant is requesting authority to reorganize its existing zone to include existing Site 5 as a “magnet” site and reduce the size of the site to 18.3 acres. The applicant is also requesting that existing Subzone 76A become a subzone under the ASF. The application would have no impact on FTZ 76's other subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is May 24, 2021. Rebuttal comments in response to material submitted during the foregoing period may be submitted during the subsequent 15-day period to June 8, 2021.

A copy of the application will be available for public inspection in the “Reading Room” section of the FTZ Board's website, which is accessible via www.trade.gov/ftz. For further information, contact Elizabeth Whiteman at Elizabeth.Whiteman@trade.gov.

Dated: March 22, 2021.
Andrew McGilvray,
Executive Secretary.

[FR Doc. 2021-06184 Filed 3-24-21; 8:45 am]

BILLING CODE 3510-DS-P